DEPARTMENT OF THE INTERIOR

Bureau of Land Management

[OR113-6310-AA; HAG02-0018]

Cascade-Siskiyou National Resource Management; Notice of Availability of Cascade-Siskiyou National Monument Draft Resource Management Plan and Draft Environmental Impact Statement

AGENCY: Bureau of Land Management, Cascade-Siskiyou National Monument, Medford District.

ACTION: Notice of availability of Cascade-Siskiyou National Monument Draft Resource Management Plan and Environmental Impact Statement (DRMP/DEIS).

SUMMARY: Pursuant to section 202 of the Federal Land Policy and Management of 1976 and section 102(2)(c) of the National Environmental Policy Act of 1969 and 40 CFR 1506.6(2), the Bureau of Land Management (BLM) has prepared a Draft Resource Management Plan (DRMP) and associated Draft Environmental Impact Statement (DEIS) for the Cascade-Siskiyou National Monument located in Jackson County, Oregon. The DRMP will provide a range of alternatives, including identification of a preferred alternative, for management direction for the Cascade-Siskiyou National Monument. The DRMP addressed management on approximately 52,947 acres of public land. Final decisions through this planning process will supercede planning guidance presented in the Medford District Resource Management Plan. The Plan will provide direction for management of these public lands for a period of approximately 10 years. The DRMP/DEIS considers all issues raised during plan scoping that are within the decision space allowed by the Presidential Proclamation 7318 which designated the Monument and other non-discretionary programs and policies. Issues addressed in the DRMP/DEIS include vegetation management, access, prescribed fire, recreation, visitor use, and facilities/rights-of-way. The DRMP/DEIS describes four alternatives for management of the CSNM, including a “No Action” Alternative A. Each “action” alternative has a different emphasis, primarily defined in terms of the amount of management intervention necessary to meet the primary goal of protecting, maintaining, restoring or enhancing relevant and important ecological, biological, geological, and archaeological objects. Alternative B promotes natural ecosystem processes in the management of plant communities. Alternative C incorporates active management for protection and maintenance of the conifer communities while limiting some ground disturbing management tools that may be used in maintaining and restoring the other plant communities. Alternative D promotes aggressive management for protection, maintenance and restoration of Monument resources through the use of all management tools available. The alternatives defer proposing land use allocations or management directions that are precluded by the need for the livestock grazing study required by the Proclamation. The action alternatives were prepared in accordance with applicable planning procedures and are designed to protect, maintain, restore or enhance Monument objects, resources and ecological processes.

DATES: The public has the opportunity to review and comment on the CSNM DRMP/DEIS. It is anticipated that this document will be available for review around May 2002. Per BLM Planning Regulations, 43 CFR 1610.2(e), ninety (90) days shall be provided for review of the draft plan and draft environmental impact statement. The 90-day period shall formally begin when the Environmental Protection Agency publishes a notice of the filing of the draft environmental impact statement in the Federal Register. During this time period, written comments on the contents of the DRMP/DEIS will be solicited, particularly comments that address one or more of the following: (1) New information that would affect the analysis; (2) possible improvements in the analysis; and (3) suggestions for improving or clarifying the proposed management direction. Specific comments are most useful. BLM will respond to comments addressing the adequacy of the DRMP/DEIS in the Proposed Resource Management Plan/Final Environmental Impact Statement. Comments on the DEIS, including names and addresses of respondents, will be available for public review at the Medford District Office during regular business hours (8 a.m. to 4:30 p.m. Monday through Friday, except holidays). Individuals may request confidentiality. If you wish to withhold your name or address from public review or from disclosure under the Freedom of Information Act, you must state this promptly at the beginning of your written comment. Such requests will be honored to the extent allowed by law. All submissions from organizations or businesses, and from individuals identifying themselves as representatives or officials or organizations or businesses, will be made available for public inspection in their entirety.

BLM will discuss the various management alternatives and answer questions pertaining to the Monument at an open-house type public meeting to be held at Southern Oregon University in Ashland, Oregon during the comment period. If there is sufficient public interest, the BLM may have additional public meetings. All public meetings will be announced in the Medford and Ashland newspapers and on the BLM Medford District's web site, http://www.or.blm.gov/Medford/ under “Planning Documents” at least 15 days prior to the event.

ADDRESSES: Written comments should be sent to Richard J. Drehobl, Monument Manager, Medford District Bureau of Land Management, 3040 Biddle Road, Medford, Oregon 97504.

FOR FURTHER INFORMATION CONTACT: Ted Hass, Planning and Environmental Coordinator at 3040 Biddle Road, Medford, Oregon, 97504, telephone 541-618-2253. Single copies of the DRMP/DEIS will be available at the BLM Medford District Office around May 2002. Interested persons not already on the mailing list may review the DRMP/DEIS via the internet at http://www.or.blm.gov/Medford/ under “Planning Documents.” A hard copy or a CD-ROM of the DRMP/DEIS may be requested from the Medford District Office.

SUPPLEMENTARY INFORMATION: The Cascade-Siskiyou National Monument (CSNM) consists of 52,947 acres of federal land located in southern Jackson County, Oregon. These federal lands are managed by the Bureau of Land Management's Medford District Office. Although there are approximately 32,222 acres of non-federal lands interspersed among the federal land within the Presidential Proclamation boundary, the CSNM is comprised of only federal land.

The CSNM is located in the Klamath and Rogue River basins and four watersheds that have a combined total of approximately 780 miles of streams. There are three ecoregions identified in the CSNM having particular biological significance in terms of species richness, endemism, and unique evolutionary/ecological phenomenon.

Archaeological evidence indicates that people have lived in the region for at least 10,000 years. Various native peoples inhabited or used the CSNM area including the Shasta, the Klamath and Modoc tribes. Euro-American settlement in the Rogue and Shasta valleys from the 1850s on spurred the development of a new way of life in the region.

The BLM controls approximately 251 miles of road that access the 52,947 acres of public land designated as the Monument. These roads provide access for recreation, private property and management activities such as wildfire suppression.

Dated: January 3, 2002.
Ron Wenker,
District Manager.

[FR Doc. 02-9598 Filed 4-23-02; 8:45 am]

BILLING CODE 4310-33-P